DEPARTMENT OF LABOR

Occupational Safety and Health Administration

[Docket No. OSHA-2019-0009]

DEKRA Certification Inc.: Grant of Expansion of Recognition

AGENCY: Occupational Safety and Health Administration (OSHA), Labor.

ACTION: Notice.

SUMMARY: In this notice, OSHA announces the final decision to expand the scope of recognition for DEKRA Certification Inc., as a Nationally Recognized Testing Laboratory (NRTL).

DATES: The expansion of the scope of recognition becomes effective on January 23, 2025.

FOR FURTHER INFORMATION CONTACT: Information regarding this notice is available from the following sources:

Press inquiries: Contact Mr. Frank Meilinger, Director, OSHA Office of Communications, U.S. Department of Labor, telephone: (202) 693-1999; email: meilinger.francis2@dol.gov.

General and technical information: Contact Mr. Kevin Robinson, Director, Office of Technical Programs and Coordination Activities, Directorate of Technical Support and Emergency Management, Occupational Safety and Health Administration, U.S. Department of Labor, phone: (202) 693-2300 or email: robinson.kevin@dol.gov.

SUPPLEMENTARY INFORMATION:

I. Notice of Final Decision

OSHA hereby gives notice of the expansion of the scope of recognition of DEKRA Certification Inc. (DEKRA), as a NRTL. DEKRA's expansion covers the addition of six test standards to the NRTL scope of recognition.

OSHA's recognition of a NRTL signifies that the organization meets the requirements specified in 29 CFR 1910.7. Recognition is an acknowledgment that the organization can perform independent safety testing and certification of the specific products covered within the scope of recognition. Each NRTL's scope of recognition includes: (1) the type of products the NRTL may test, with each type specified by the applicable test standard; and (2) the recognized site(s) that has/have the technical capability to perform the product-testing and product-certification activities for test standards within the NRTL's scope. Recognition is not a delegation or grant of government authority; however, recognition enables employers to use products approved by the NRTL to meet OSHA standards that require product testing and certification.

The agency processes applications by a NRTL for initial recognition and for an expansion or renewal of this recognition, following requirements in Appendix A to 29 CFR 1910.7. This appendix requires that the agency publish two notices in the Federal Register in processing an application. In the first notice, OSHA announces the application and provides a preliminary finding. In the second notice, the agency provides a final decision on the application. These notices set forth the NRTL's scope of recognition or modifications of that scope. OSHA maintains an informational web page for each NRTL, including DEKRA, which details the NRTL's scope of recognition. These pages are available from the OSHA website at http://www.osha.gov/dts/otpca/nrtl/index.html.

DEKRA submitted an application to OSHA for expansion of the NRTL scope of recognition on January 5, 2023 (OSHA-2019-0009-0013), requesting the addition of six recognized testing standards. OSHA staff performed a detailed analysis of the application packet and reviewed other pertinent information. OSHA did not perform an on-site review associated with this application. OSHA staff has preliminarily determined that OSHA should grant the application.

OSHA published a Federal Register notice announcing DEKRA's application and soliciting public comment on December 30, 2024 (89 FR 106601). The agency requested comments by January 14, 2025, however no comments were received in response to this notice. OSHA is now proceeding with the expansion of DEKRA's NRTL scope of recognition.

To obtain or review copies of all public documents pertaining to the DEKRA expansion application, go to www.regulations/gov or contact the Docket Office at (202) 693-2350 (TTY (877) 889-5627. Docket No. OSHA-2019-0009 contains all materials in the record containing DEKRA's recognition.

II. Final Decision and Order

OSHA staff examined DEKRA's expansion application and examined other pertinent information. Based on review of this evidence, OSHA finds that DEKRA meets the requirements of 29 CFR 1910.7 for expansion of recognition, subject to the specified limitations and conditions. OSHA, therefore, is proceeding with this final notice to grant expansion of DEKRA's scope of recognition. OSHA limits the expansion of DEKRA's recognition to testing and certification of products for demonstration of compliance to the test standards listed below in Table 1.

Table 1—List of Appropriate Test Standards for Inclusion in DEKRA's NRTL Scope of Recognition
Test standard | Test standard title
FM 3600 | Electrical Equipment for Use in Hazardous (Classified) Locations, General Requirements.
FM 3610 * | Intrinsically Safe Apparatus and Associated Apparatus for Use in Class I, II and III, Division 1 Hazardous (Classified) Locations.
FM 3611 | Electrical Equipment for Use in Class I, Division 2; Class II, Division 2; and Class III, Division 1 and 2 Hazardous Locations.
FM 3615 * | Explosion-proof Electrical Equipment, General Requirements.
FM 3810 * | Electrical and Electronic Test, Measuring and Process Control Equipment.
UL 857 | Electric Busways and Associated Fittings.
* OSHA notes that the title to this standard in the table is taken from OSHA's List of Appropriate Test Standards (see https://www.osha.gov/nationally-recognized-testing-laboratory-program/list-standards). This title is not the same as the title currently used by the Standards Developing Organization that issued the test standard. OSHA intends to update the List of Appropriate Test Standards to reflect the currently used title in the near future.

A. Conditions

In addition to those conditions already required by 29 CFR 1910.7, DEKRA also must abide by the following conditions of the recognition:

1. DEKRA must inform OSHA as soon as possible, in writing, of any change of ownership, facilities, or key personnel, and of any major change in its operations as a NRTL, and provide details of the change(s);

2. DEKRA must meet all the terms of its recognition and comply with all OSHA policies pertaining to this recognition; and

3. DEKRA must continue to meet the requirements for recognition, including all previously published conditions on DEKRA's scope of recognition, in all areas for which it has recognition.

Pursuant to the authority in 29 CFR 1910.7, OSHA hereby expands the scope of recognition of DEKRA as a NRTL, subject to the limitations and conditions specified above.

III. Authority and Signature

Douglas L. Parker, Assistant Secretary of Labor for Occupational Safety and Health, authorized the preparation of this notice. Accordingly, the agency is issuing this notice pursuant to 29 U.S.C. 657(g)(2), Secretary of Labor's Order No. 8-2020 (85 FR 58393, Sept. 18, 2020), and 29 CFR 1910.7.

Signed at Washington, DC.
Douglas L. Parker,
Assistant Secretary of Labor for Occupational Safety and Health.

[FR Doc. 2025-01571 Filed 1-22-25; 8:45 am]

BILLING CODE 4510-26-P